DEPARTMENT OF THE INTERIOR

Fish and Wildlife Service

Notice of a Meeting of the Klamath Fishery Management Council

AGENCY: Fish and Wildlife Service, Interior.

ACTION: Notice of meetings.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The meeting is open to the public. The Klamath Fishery Management Council makes recommendations to agencies that regulate harvest of anadromous fish in the Klamath River Basin. On the first day of this meeting, the Klamath Fishery Management Council will hear technical reports and discuss Klamath River salmon management. On the second day, the Klamath Fishery Management Council will join a meeting of the Klamath River Basin Fisheries Task Force to hear reports on the status of fish health and habitat in the Klamath River.

DATES: The meeting will be held from 9 a.m. to 5 p.m. on October 18, 2005, and 9 a.m. to 12 p.m. on October 19, 2005.

ADDRESSES: The meeting will be held at the Shilo Inn, 2500 Almond Street, Klamath Falls, Oregon.

FOR FURTHER INFORMATION CONTACT: Phil Detrich, Field Supervisor, U.S. Fish and Wildlife Service, 1829 South Oregon Street, Yreka, California 96097, telephone (530) 842-5763.

SUPPLEMENTARY INFORMATION: For background information on the Klamath Fishery Management Council, please refer to the notice of their initial meeting that appeared in the Federal Register on July 8, 1987 (52 FR 25639).

Dated: July 28, 2005.
John Engbring,
Acting Manager, California/Nevada Operations Office, Sacramento, CA.

[FR Doc. 05-15407 Filed 8-3-05; 8:45 am]

BILLING CODE 4310-55-P